DEPARTMENT OF DEFENSE

Office of the Secretary

Proposed Collection; Comment Request

AGENCY: Office of the Under Secretary of Defense (Policy).

ACTION: Notice.

In compliance with Section 35006(c)(2)(A) of the Paperwork Reduction Act of 1995, the Office of the Under Secretary of Defense (Policy) announces the proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or forms of information technology.

DATES: Consideration will be given to all comments received by July 5, 2000.

ADDRESSES: Written comments and recommendations on the proposed information collection should be sent to Gladys Crews, ODUSD(PS), Room BE865, 2000 Defense Pentagon, Washington, DC 20301-2000.

FOR FURTHER INFORMATION CONTACT: To request more information on this proposed information collection or to obtain a copy of the proposal and associated collection instruments, please write to the above address, or call (703) 697-5495.

Title and OMB Number: Foreign Visitor System; 0704-0221.

Needs and Uses: The information collection requirement is necessary to record the reporting of authorized foreign visits that have occurred at Department of Defense (DoD) Sites and associated locations, which is designed to meet the requirements set forth in DoD Directive 5230.20, “Visits, Assignments, and Exchanges of Foreign Nationals.”

Affected Public: Individuals (Representing Foreign Governments and Businesses or other For-Profits).

Annual Burden Hours: 3250.

Number of Respondents: 13,000.

Responses per Respondent: 1.

Average Burden per Response: 15 minutes.

SUPPLEMENTARY INFORMATION:

Summary of Information Collection

Respondents are individuals representing foreign governments or foreign businesses visiting Department of Defense facilities. DoD personnel process the information into an automated system. The information collected is used to positively identify the individual. This centralized information system is necessary to confirm that approved visits have occurred.

Dated: May 1, 2000.
Patricia L. Toppings,
Alternate OSD Federal Register, Liaison Officer, Department of Defense.

[FR Doc. 00-11195 Filed 5-4-00; 8:45 am]

BILLING CODE 5001-10-M